DEPARTMENT OF HOMELAND SECURITY

Federal Emergency Management Agency

[Docket ID: FEMA-2018-0013; OMB No. 1660-0008]

Agency Information Collection Activities: Proposed Collection; Comment Request; Elevation Certificate/Floodproofing Certificate

AGENCY: Federal Emergency Management Agency, DHS.

ACTION: Notice and request for comments.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the Elevation Certificate and the Floodproofing Certificate for Non-Residential Structures.

DATES: Comments must be submitted on or before May 8, 2018.

ADDRESSES: To avoid duplicate submissions to the docket, please use only one of the following means to submit comments:

(1) Online. Submit comments at www.regulations.gov under Docket ID FEMA-2018-0013. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Joycelyn Collins, Program Analyst, Flood Insurance Directorate, (202) 212-4716. You may contact the Information Management Division for copies of the proposed collection of information at email address: FEMA-Information-Collections-Management@fema.dhs.gov.

SUPPLEMENTARY INFORMATION: Communities participating in the National Flood Insurance Program (NFIP) are required to adopt a floodplain management ordinance that meets or exceeds the minimum floodplain management requirements of the NFIP. In accordance with FEMA's minimum floodplain management criteria, communities must require that all new construction and substantial improvement of residential structures and non-residential structures have the lowest floor (including basement) elevated to above the base flood elevation, unless, for residential structures, the community is granted an exception by FEMA for the allowance of basements under 44 CFR 60.6(b) or (c). 44 CFR 60.3(c)(2) and (3)(i). New construction and substantial improvement of non-residential structures, together with attendant utility and sanitary facilities, can also be designed and floodproofed so that below the base flood level, the structure is watertight with walls substantially impermeable to the passage of water and with structural components having the capability to resist hydrostatic and hydrodynamic loads and effects of buoyancy. 44 CFR 60.3(c)(3)(ii). Use of the Elevation Certificate and Floodproofing Certificate is one convenient way for a community to document building compliance. Title 44 CFR 61.7 and 61.8 require proper investigation to estimate the risk premium rates necessary to provide flood insurance.

Collection of Information

Title: Elevation Certificate/Floodproofing Certificate.

Type of Information Collection: Extension, without change, of a currently approved collection.

OMB Number: 1660-0008.

FEMA Forms: FEMA Form 086-0-33, Elevation Certificate and FEMA Form 086-0-34, Floodproofing Certificate for Non-Residential Structures.

Abstract: The Elevation Certificate and Floodproofing Certificate are used in conjunction with the Flood Insurance Application to rate Post-Flood Insurance Rate Map (FIRM) buildings in Special Flood Hazard Areas. These forms are used for buildings constructed on or after the effective date of the initial FIRM for the community or after December 1, 1974, whichever is later.

Affected Public: Individuals or households, Business or other for-profit, Not-for-profit institutions; Farms; State, Local or Tribal Government.

Number of Respondents: 12,359.

Number of Responses: 12,359.

Estimated Total Annual Burden Hours: 46,345.75.

Estimated Total Annual Respondent Cost: $2,065,214.10.

Estimated Respondents' Operation and Maintenance Costs: $4,325,650.00.

Estimated Respondents' Capital and Start-Up Costs: 0.

Estimated Total Annual Cost to the Federal Government: $68,061.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 1, 2018.
William H. Holzerland,
Sr. Director for Information Management, Mission Support, Federal Emergency Management Agency, Department of Homeland Security.

[FR Doc. 2018-04706 Filed 3-8-18; 8:45 am]

BILLING CODE 9111-47-P